DEPARTMENT OF AGRICULTURE

Agricultural Marketing Service

[Document Number AMS-NOP-17-0038; NOP-17-06]

Notice of Meeting of the National Organic Standards Board

AGENCY: Agricultural Marketing Service, USDA.

ACTION: Notice of public meeting, via teleconference, of the National Organic Standards Board (NOSB).

SUMMARY: In accordance with the Federal Advisory Committee Act, as amended, the Agricultural Marketing Service (AMS), U.S. Department of Agriculture (USDA), is announcing a meeting of the National Organic Standards Board (NOSB) to discuss the development of a proposal on aeroponics/bioponics/hydroponics.

DATES: August 14, 2017. 1:00 p.m. ET-3:00 p.m. ET.

Conference Call: Instructions for accessing the teleconference are available on the AMS/NOP Web site.

FOR FURTHER INFORMATION CONTACT: Ms. Michelle Arsenault, Advisory Committee Specialist, National Organic Standards Board, USDA-AMS-NOP, 1400 Independence Ave. SW., Room 2642-S, Mail Stop 0268, Washington, DC 20250-0268; Phone: (202) 720-3252; Email: nosb@ams.usda.gov.

SUPPLEMENTARY INFORMATION: The NOSB members will discuss the development of proposals on aeroponics/bioponics/hydroponics for a future NOSB meeting. The NOSB will not be voting on a recommendation during this conference call. The NOSB makes recommendations to the Department of Agriculture about whether substances should be allowed or prohibited in organic production and/or handling, assists in the development of standards for organic production, and advises the Secretary on other aspects of the implementation of the Organic Foods Production Act (7 U.S.C. 6501-6522).

Public Comments: The NOSB will be meeting in October 2017 and may consider a proposal on aeroponics/bioponics/hydroponics at that time. The NOSB is accepting comments, both written and oral, through October 11, 2017. Written comments: Written public comments will be accepted on or before 11:59 p.m. ET October 11, 2017 via http://www.regulations.gov. Comments submitted after this date will be provided to the NOSB, but Board members may not have adequate time to consider those comments prior to making recommendations. The NOP strongly prefers comments to be submitted electronically, however, written comments may also be submitted (i.e., postmarked) by the deadline, via mail to the person listed under FOR FURTHER INFORMATION. Oral Comments: Persons or organizations wishing to make oral comments must pre-register by 11:59 p.m. ET, October 11, 2017, and can only register for one speaking slot: Either during the webinar(s) scheduled for October 24 (and October 26 if needed) or at the in-person meeting, October 31, 2017. Due to the limited time allotted for in-person public comments, commenters are strongly encouraged to comment during the webinar(s). Instructions for registering and participating in the webinar can be found at www.ams.usda.gov/NOSBMeetings.

Meeting Accommodations: USDA provides reasonable accommodation to individuals with disabilities where appropriate. If you need a reasonable accommodation to participate in this public meeting, please notify the person listed under FOR FURTHER INFORMATION. Determinations for reasonable accommodation will be made on a case-by-case basis.

Dated: July 17, 2017.
Bruce Summers,
Acting Administrator, Agricultural Marketing Service.

[FR Doc. 2017-15308 Filed 7-20-17; 8:45 am]

BILLING CODE 3410-02-P